DEPARTMENT OF COMMERCE

International Trade Administration

[A-570-935]

Certain Circular Welded Carbon-Quality Steel Line Pipe From the People's Republic of China: Final Results of the Expedited Third Sunset Review of the Antidumping Duty Order

AGENCY: Enforcement and Compliance, International Trade Administration, Department of Commerce.

SUMMARY: As a result of this expedited third sunset review, the U.S. Department of Commerce (Commerce) finds that revocation of the antidumping duty (AD) order on certain circular welded carbon-quality steel line pipe (line pipe) from the People's Republic of China (China) would likely lead to continuation or recurrence of dumping at the level indicated in the “Final Results of Expedited Sunset Review” section of this notice.

DATES: Applicable January 3, 2025.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

On May 13, 2009, Commerce published in the Federal Register the AD order on line pipe from China.¹ On September 1, 2024, Commerce published the notice of initiation of the third sunset review of the Order, pursuant to section 751(c) of the Tariff Act of 1930, as amended (the Act).² After Commerce initiated this sunset review of the Order, the American Line Pipe Producers Association Welded Line Pipe Committee ³ (ALPPA), a domestic interested party, timely submitted a complete notice of intent to participate in,⁴ and an adequate substantive response regarding, the sunset review.⁵ ALPPA claimed interested party status under section 771(9)(F) of the Act and 19 CFR 351.102(b)(29)(viii) because its members are producers of the domestic like product and claimed that its members are domestic interested parties under section 771(9)(C) of the Act (a manufacturer, producer, or wholesaler in the United States of a domestic like product) and 19 CFR 351.102(b)(29)(v).⁶ Commerce did not receive a substantive response from any respondent interested party, nor was a hearing requested. Consequently, on October 31, 2024, Commerce notified the U.S. International Trade Commission that it did not receive an adequate substantive response from any respondent interested parties.⁷ As a result, pursuant to section 751(c)(3)(B) of the Act and 19 CFR 351.218(e)(1)(ii)(C)(2), Commerce conducted an expedited (120-day) sunset review of the Order.

¹ See Certain Circular Welded Carbon Quality Steel Line Pipe from the People's Republic of China: Antidumping Duty Order, 74 FR 22515 (May 13, 2009) (Order).

² See Initiation of Five-Year (Sunset) Reviews, 89 FR 71252 (September 3, 2024).

³ The members of ALPPA are the American Cast Iron Pipe Company, Axis Pipe & Tube, Dura-Bond Industries, and Welspun Tubular LLC.

⁴ See ALPPA's Letter, “Notice of Intent to Participate in Sunset Review,” dated September 17, 2024 (Intent to Participate).

⁵ See ALPPA's Letter, “Substantive Response to Notice of Initiation,” dated October 3, 2024.

⁶ See Intent to Participate at 2.

⁷ See Commerce's Letter, “Sunset Reviews Initiated on September 3, 2024,” dated October 31, 2024; see also 19 CFR 351.218(3)(1)(ii)(C)(1).

Scope of the Order

The merchandise covered by the Order is line pipe from China. For a complete description of the scope of the Order, see the Issues and Decision Memorandum.⁸

⁸ See Memorandum, “Issue and Decision Memorandum for the Final Results of the Expedited Third Sunset Review of the Antidumping Duty Order on Certain Circular Welded Carbon-Quality Steel Line Pipe from the People's Republic of China,” dated concurrently with, and hereby adopted by, this notice (Issues and Decision Memorandum).

Analysis of Comments Received

All issues raised in this sunset review are addressed in the accompanying Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Expedited Sunset Review

Pursuant to sections 751(c)(1) and 752(c)(1) and (3) of the Act, Commerce determines that revocation of the Order would likely lead to the continuation or recurrence of dumping and that the magnitude of the margins likely to prevail if the Order was revoked is up to 101.10 percent.

Administrative Protective Order (APO)

This notice serves as the only reminder to parties subject to an APO of their responsibility concerning the return or destruction of proprietary information disclosed under an APO in accordance with 19 CFR 351.305(a). Timely notification of the return or destruction of APO materials or conversion to judicial protective order, is hereby requested. Failure to comply with the regulations and terms of an APO is a violation which is subject to sanction.

Notification to Interested Parties

We are issuing, and publishing notice of, the results of this sunset review in accordance with sections 751(c), 752(c), and 777(i)(1) of the Act and 19 CFR 351.218(e)(1)(ii)(C)(2) and 19 CFR 351.221(c)(5)(ii).

Dated: December 27, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2024-31592 Filed 1-2-25; 8:45 am]

BILLING CODE 3510-DS-P